DEPARTMENT OF ENERGY

Federal Energy Regulatory Commission

Combined Notice of Filings #2

Take notice that the Commission received the following electric rate filings:

Docket Numbers: ER17-2391-000.

Applicants: Avista Corporation.

Description: § 205(d) Rate Filing: Avista Corp OATT—Misc Revisions to be effective 11/1/2017.

Filed Date: 8/31/17.

Accession Number: 20170831-5082.

Comments Due: 5 p.m. ET 9/21/17.

Docket Numbers: ER17-2392-000.

Applicants: PacifiCorp.

Description: § 205(d) Rate Filing: Pacificorp EIM MBR Application_August 31 2017 to be effective 11/1/2017.

Filed Date: 8/31/17.

Accession Number: 20170831-5096.

Comments Due: 5 p.m. ET 9/21/17.

Docket Numbers: ER17-2393-000.

Applicants: California Independent System Operator Corporation.

Description: § 205(d) Rate Filing: 2017-08-31 Transferred Frequency Response Agreement Grant County to be effective 11/1/2017.

Filed Date: 8/31/17.

Accession Number: 20170831-5113.

Comments Due: 5 p.m. ET 9/21/17.

Docket Numbers: ER17-2394-000.

Applicants: Nevada Power Company.

Description: § 205(d) Rate Filing: Market-Based Rate Tariff NPC 08.31.17 to be effective 11/1/2017.

Filed Date: 8/31/17.

Accession Number: 20170831-5118.

Comments Due: 5 p.m. ET 9/21/17.

Docket Numbers: ER17-2395-000.

Applicants: Sierra Pacific Power Company.

Description: § 205(d) Rate Filing: Market-Based Rate Tariff Volume No. 7 SPPC 08.31.17 to be effective 11/1/2017.

Filed Date: 8/31/17.

Accession Number: 20170831-5122.

Comments Due: 5 p.m. ET 9/21/17.

Docket Numbers: ER17-2396-000.

Applicants: Mid-Atlantic Interstate Transmission, LLC, PJM Interconnection, L.L.C.

Description: § 205(d) Rate Filing: MAIT submits Settlement Payment Agreement No. 4767 to be effective 8/8/2017.

Filed Date: 8/31/17.

Accession Number: 20170831-5134.

Comments Due: 5 p.m. ET 9/21/17.

Docket Numbers: ER17-2397-000.

Applicants: Public Service Company of Colorado.

Description: § 205(d) Rate Filing: PSCo-PSCoES-LGIA-464-0.0.0 Filing to be effective 9/1/2017.

Filed Date: 8/31/17.

Accession Number: 20170831-5137.

Comments Due: 5 p.m. ET 9/21/17.

Docket Numbers: ER17-2398-000.

Applicants: California Independent System Operator Corporation.

Description: § 205(d) Rate Filing: 2017-08-31 Transferred Frequency Response Agreement Chelan County to be effective 11/1/2017.

Filed Date: 8/31/17.

Accession Number: 20170831-5141.

Comments Due: 5 p.m. ET 9/21/17.

Docket Numbers: ER17-2399-000.

Applicants: Entergy Arkansas, Inc.

Description: § 205(d) Rate Filing: Revised EAI-Benton WDS Agreement to be effective 9/1/2017.

Filed Date: 8/31/17.

Accession Number: 20170831-5146.

Comments Due: 5 p.m. ET 9/21/17.

Docket Numbers: ER17-2400-000.

Applicants: SP Butler Solar, LLC.

Description: Baseline eTariff Filing: Application for MBR Authority and Initial Baseline Tariff Filing to be effective 9/1/2017.

Filed Date: 8/31/17.

Accession Number: 20170831-5153.

Comments Due: 5 p.m. ET 9/21/17.

Docket Numbers: ER17-2401-000.

Applicants: SP Decatur Parkway Solar, LLC.

Description: Baseline eTariff Filing: Application for MBR Authority and Initial Baseline Tariff Filing to be effective 9/1/2017.

Filed Date: 8/31/17.

Accession Number: 20170831-5154.

Comments Due: 5 p.m. ET 9/21/17.

Docket Numbers: ER17-2402-000.

Applicants: California Independent System Operator Corporation.

Description: § 205(d) Rate Filing: 2017-08-31 Westerm O'Neill Generator Scheduling Agreement to be effective 11/1/2017.

Filed Date: 8/31/17.

Accession Number: 20170831-5155.

Comments Due: 5 p.m. ET 9/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2017.
Nathaniel J. Davis, Sr.,
Deputy Secretary.

[FR Doc. 2017-18941 Filed 9-6-17; 8:45 am]

BILLING CODE 6717-01-P